DEPARTMENT OF HEALTH AND HUMAN SERVICES

Centers for Disease Control and Prevention

Notice of Award of a Single-Source Cooperative Agreement To Fund Ministry of Health (MOH)—Trinidad & Tobago (TT)

AGENCY: Centers for Disease Control and Prevention (CDC), Department of Health and Human Services (HHS).

ACTION: Notice.

SUMMARY: The Centers for Disease Control and Prevention (CDC), located within the Department of Health and Human Services (HHS), announces the award of approximately $2,000,000 for Year 1 of funding to the Ministry of Health- Trinidad & Tobago. This award will help build national capacity of TT to treat HIV and other diseases of public health importance impacting people living with HIV (PLHIV) and populations affected by HIV, as well as move progress towards achieving the 95-95-95 goals and ensure sustainable control of the epidemic in TT. Funding amounts for years 2-5 will be set at continuation.

DATES: The period for this award will be September 30, 2022, through September 29, 2027.

FOR FURTHER INFORMATION CONTACT: Douan Kirivong, Center for Global Health, Centers for Disease Control and Prevention, 142 Old Hope Road, Kingston 6, Jamaica, Telephone: 800-232-6348, Email: bpq7@cdc.gov.

SUPPLEMENTARY INFORMATION: The single-source award will provide high quality prevention, care, and treatment services for PLHIV; strengthen strategic health information; and provide equitable access to comprehensive public health services addressing PLHIV and other diseases impacting PLHIV in TT.

The Ministry of Health is in a unique position to conduct this work, as it is the national authority charged with oversight of the entire health system in TT. The HIV and AIDS Coordinating Unit (HACU) in the MOH leads the Ministry of Health's response in reducing the incidence of HIV infections in TT and mitigating the impact of HIV/AIDS in persons infected and affected nationwide.

Summary of the Award

Recipient: Ministry of Health (MOH)—Trinidad & Tobago (TT).

Purpose of the Award: The purpose of the award is to help build national capacity of TT to treat HIV and other diseases of public health importance impacting PLHIV and populations affected by HIV, as well as move progress towards achieving the 95-95-95 goals and ensure sustainable control of the epidemic in TT.

Amount of Award: The approximate year 1 funding amount will be $2,000,000 in Federal Fiscal Year (FYY) 2022 funds, subject to the availability of funds. Funding amounts for years 2-5 will be set at continuation.

Authority: This program is authorized under Public Law 108-25 (the United States Leadership Against HIV AIDS, Tuberculosis and Malaria Act of 2003).

Period of Performance: September 30, 2022, through September 29, 2027.

Dated: June 9, 2022.
Terrance Perry,
Chief Grants Management Officer, Centers for Disease Control and Prevention.

[FR Doc. 2022-12847 Filed 6-14-22; 8:45 am]

BILLING CODE 4163-18-P